DEPARTMENT OF COMMERCE

International Trade Administration

[A-475-828, A-557-809, A-565-801]

Stainless Steel Butt-Weld Pipe Fittings From Italy, Malaysia, and the Philippines: Final Results of the Expedited Second Five-Year (“Sunset”) Reviews of Antidumping Duty Orders

AGENCY: Import Administration, International Trade Administration, Department of Commerce.

SUMMARY: On November 1, 2011, the Department of Commerce (the Department) initiated sunset reviews of the antidumping duty orders on stainless steel butt-weld pipe fittings (butt-weld pipe fittings) from Italy, Malaysia, and the Philippines pursuant to section 751(c) of the Tariff Act of 1930, as amended (the Act).¹ On the basis of notices of intent to participate and adequate substantive responses filed on behalf of domestic interested parties, and no adequate response from respondent interested parties, the Department conducted expedited (120-day) sunset reviews of these antidumping duty orders. As a result of these sunset reviews, the Department finds that revocation of the antidumping duty orders would be likely to lead to continuation or recurrence of dumping at the levels identified below in the “Final Results of Sunset Reviews” section of this notice.

¹ See Initiation of Five-Year (“Sunset”) Review, 76 FR 67412 (November 1, 2011) (Initiation Notice).

DATES: Effective Date: March 8, 2012.

FOR FURTHER INFORMATION CONTACT: Dena Crossland or Angelica Mendoza, AD/CVD Operations, Office 7, Import Administration, International Trade Administration, U.S. Department of Commerce, 14th Street and Constitution Avenue NW., Washington, DC 20230; telephone: (202) 482-3362 or (202) 482-3019, respectively.

SUPPLEMENTARY INFORMATION:

Background

On November 1, 2011, the Department initiated the second sunset reviews of the antidumping duty orders on butt-weld pipe fittings from Italy, Malaysia, and the Philippines pursuant to section 751(c) of the Act. See Initiation Notice. On November 16, 2011, the Department received notices of intent to participate from four domestic interested parties, Core Pipe Products, Inc. (formerly Gerlin, Inc.), Ezeflow USA Inc.—Flowline Division (formerly Flowline Division of Markovitz Enterprises, Inc.), Shaw Alloy Piping Products, Inc., and Taylor Forge Stainless, Inc. (collectively, domestic interested parties), within the deadline specified in section 351.218(d)(1)(i) of the Department's regulations. Domestic interested parties claimed interested party status under section 771(9)(C) of the Act as U.S. producers of a domestic like product.

On December 1, 2011, we received an adequate substantive response from domestic interested parties within the 30-day deadline specified in section 351.218(d)(3)(i) of the Department's regulations. Additionally on December 1, 2011, we received an incomplete response to the Department's initiation notice of the five-year sunset review of butt-weld pipe fittings from Italy from respondent interested party Filmag Italia, srl (Filmag). In its incomplete response, Filmag also requested a one-week extension for gathering and submitting the required information for a substantive response. On December 5, 2011, we notified Filmag that in light of the Department's statutory requirement to issue timely determinations in these sunset reviews, and given the fact that parties were afforded ample time in which to provide complete substantive responses, we were unable to grant Filmag's extension request.²

² See Letter to Filmag Italia, srl, from Angelica L. Mendoza, Program Manager, Office 7, AD/CVD Operations, dated December 5, 2011.

On December 6, 2011, we notified Filmag that it did not include a representative certification in its December 1, 2011, submission, and requested that Filmag resubmit its December 1, 2011, submission, with all of the proper certifications, by December 7, 2011.³ On December 7, 2011, Filmag resubmitted its December 1, 2011, submission, which included all of the proper certifications.

³ See Letter to Filmag Italia, srl, from Angelica L. Mendoza, Program Manager, Office 7, AD/CVD Operations, dated December 6, 2011.

On December 13, 2011, because Filmag did not provide any volume data to show that its exports accounted for more than 50 percent of the total exports of subject merchandise to the United States over the relevant five-year period pursuant to 19 CFR 351.218(e)(1)(ii)(A), we determined its December 1, 2011, response to be inadequate.⁴

⁴ See Memorandum to Richard O. Weible, Director, AD/CVD Operations, Office 7, “Adequacy Determination in the Second Five-Year `Sunset Review' (2006 through 2010) of the Antidumping Duty Orders on Stainless Steel Butt-Weld Pipe Fittings (SSBWPFs) from Italy, Malaysia, and the Philippines,” dated December 13, 2011 (Adequacy Determination Memorandum).

We did not receive any substantive response from any other respondent interested parties with respect to the antidumping duty orders on butt-weld pipe fittings from Italy, Malaysia, or the Philippines. Additionally, we did not receive any rebuttal response from any respondent interested parties. As a result, pursuant to section 751(c)(3)(B) of the Act and section 351.218(e)(1)(ii)(C)(2) of the Department's regulations, the Department conducted expedited sunset reviews of these orders.⁵

⁵ See Letter to Catherine DeFilippo, Director, Office of Investigations, U.S. International Trade Commission, from Edward C. Yang, Senior Director, China/NME, AD/CVD Operations, entitled “Sunset Reviews Initiated on November 1, 2011,” dated December 8, 2011 (Letter to the U.S. International Trade Commission).

On January 6, 2012, domestic interested parties submitted a letter to the Department in support of the Department's Letter to the U.S. International Trade Commission and the Department's Adequacy Determination Memorandum. Additionally, in their January 6, 2012, letter, domestic interested parties reiterated that the Department should find that revocation of the antidumping duty orders on butt-weld pipe fittings from Italy, Malaysia, and the Philippines would be likely to lead to continuation or recurrence of dumping at the margins indicated in domestic interested parties' substantive response.

Scope of the Orders

For purposes of the orders, the product covered is certain stainless steel butt-weld pipe fittings (butt-weld fittings). Butt-weld pipe fittings are under 14 inches in outside diameter (based on nominal pipe size), whether finished or unfinished. The product encompasses all grades of stainless steel and “commodity” and “specialty” fittings. Specifically excluded from the definition are threaded, grooved, and bolted fittings, and fittings made from any material other than stainless steel.

The butt-weld fittings subject to the orders are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by the orders.

The orders do not apply to cast fittings. Cast austenitic stainless steel pipe fittings are covered by specifications A351/A351M, A743/743M, and A744/A744M.

The butt-weld fittings subject to the orders are currently classifiable under subheading 7307.23.0000 of the Harmonized Tariff Schedule of the United States (HTSUS). Although the HTSUS subheadings are provided for convenience and customs purposes, the written description of the scope of the orders is dispositive.

Analysis of Comments Received

All issues raised in these cases are addressed in the “Issues and Decision Memorandum for the Final Results of the Expedited Second Five-Year (“Sunset”) Reviews of the Antidumping Duty Orders on Stainless Steel Butt-Weld Pipe Fittings from Italy, Malaysia, and the Philippines” from Christian Marsh, Deputy Assistant Secretary for Antidumping and Countervailing Duty Operations, Import Administration, to Ronald K. Lorentzen, Acting Assistant Secretary for Import Administration, dated February 29, 2012 (Decision Memorandum), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file electronically via Import Administration's Antidumping and Countervailing Duty Centralized Electronic Service System (IA ACESS). Access to IA ACCESS is available in the Central Records Unit, room 7046 of the main Department of Commerce building. In addition, a complete version of the Decision Memorandum can be accessed directly on the internet at http://www.trade.gov/ia/. The signed Decision Memorandum and the electronic versions of the Decision Memorandum are identical in content.

Final Results of Sunset Reviews

The Department determines that revocation of the antidumping duty orders on butt-weld pipe fittings from Italy, Malaysia, and the Philippines would likely lead to continuation or recurrence of dumping at the following percentage weighted-average margins:

Manufacturers/exporters/ producers | Weighted-average margin (percent)
Italy:
Coprosider S.p.A | 26.59
All Others | 26.59
Malaysia:
Kanzen Tetsu Sdn. Bhd | 7.51
All Others | 7.51
The Philippines:
Enlin Steel Corporation | 33.81
Tung Fong Industrial Co., Inc | 7.59
All Others | 7.59

Notification Regarding Administrative Protective Orders

This notice also serves as the only reminder to parties subject to administrative protective order of their responsibility concerning the return or destruction of proprietary information disclosed under administrative protection order in accordance with section 351.305 of the Department's regulations. Timely notification of the return or destruction of administrative protective order materials or conversion to judicial protective order is hereby requested. Failure to comply with the regulations and terms of an administrative protective order is a violation which is subject to sanction.

The Department is issuing and publishing the final results and notice in accordance with sections 751(c), 752(c), and 777(i)(1) of the Act.

Dated: February 29, 2012.
Ronald K. Lorentzen,
Acting Assistant Secretary for Import Administration.

[FR Doc. 2012-5672 Filed 3-7-12; 8:45 am]

BILLING CODE 3510-DS-P